DEPARTMENT OF HOMELAND SECURITY

Federal Emergency Management Agency

44 CFR Part 65

[Docket ID FEMA-2011-0002]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Nevada:
Clark (FEMA Docket No.: B-1146) | Unincorporated areas of Clark County (09-09-2398P) | June 10, 2010; June 17, 2010; The Las Vegas Review Journal | Ms. Susan Brager, Chair, Clark County Board of Commissioners, 500 South Grand Central Parkway, Las Vegas, NV 89155 | June 28, 2010 | 320003
Clark (FEMA Docket No.: B-1146) | Unincorporated areas of Clark County (09-09-3102P) | June 10, 2010; June 17, 2010; The Las Vegas Review Journal | Ms. Susan Brager, Chair, Clark County Board of Commissioners, 500 South Grand Central Parkway, Las Vegas, NV 89155 | October 15, 2010 | 320003
Clark (FEMA Docket No.: B-1146) | Unincorporated areas of Clark County (10-09-1718P) | June 24, 2010; July 1, 2010; The Las Vegas Review Journal | Ms. Susan Brager, Chair, Clark County Board of Commissioners, 500 South Grand Central Parkway, Las Vegas, NV 89155 | June 16, 2010 | 320003
Washoe (FEMA Docket No.: B-1124) | Unincorporated areas of Washoe County (09-09-3152P) | April 6, 2010; April 13, 2010; The Reno Gazette-Journal | The Honorable David Humke, Chairman, Washoe County Board of Commissioners, P.O. Box 11130, Reno, NV 89520 | August 11, 2010 | 320019
New York:
Niagara (FEMA Docket No.: B-1150) | Town of Cambria (07-02-0919P) | October 18, 2007; October 25, 2007; The Niagara Gazette | Mr. Wright H. Ellis, Supervisor, Cambria Board of Supervisors, 4160 Upper Mountain Road, Sanborn, NY 14132 | January 24, 2008 | 360499
North Carolina:
Cumberland (FEMA Docket No.: B-1156) | Town of Hope Mills (10-04-0445P) | July 26, 2010; August 2, 2010; The Fayetteville Observer | The Honorable Eddie Dees, Mayor, Town of Hope Mills, 5770 Rockfish Road, Hope Mills, NC 28348 | November 30, 2010 | 370312
Cumberland (FEMA Docket No.: B-1156) | Unincorporated areas of Cumberland County (10-04-0445P) | July 26, 2010; August 2, 2010; The Fayetteville Observer | Mr. James E. Martin, Cumberland County Manager, 117 Dick Street, Room 512, Fayetteville, NC 28301 | November 30, 2010 | 370076
Currituck (FEMA Docket No.: B-1146) | Unincorporated areas of Currituck County (09-04-5228P) | May 21, 2010; May 28, 2010; The Daily Advance | Mr. Daniel F. Scanlon II, Currituck County Manager, P.O. Box 39, Currituck, NC 27929 | May 11, 2010 | 370078
Durham (FEMA Docket No.: B-1172) | City of Durham (09-04-5502P) | November 27, 2009; December 4, 2009; The Herald-Sun | The Honorable William V. Bell, Mayor, City of Durham, 101 City Hall Plaza, Durham, NC 27701 | April 5, 2010 | 370086
Granville (FEMA Docket No.: B-1157) | Unincorporated areas of Granville County (10-04-4713P) | August 5, 2010; August 12, 2010; The Butner-Creedmoor News & The Oxford Public Ledger | Mr. Brian Alligood, Granville County Manager, P.O. Box 906, Oxford, NC 27565 | December 10, 2010 | 370325
Guilford (FEMA Docket No.: B-1141) | City of Greensboro (09-04-4869P) | May 27, 2010; June 3, 2010; The Greensboro News & Record | The Honorable William H. Knight, Mayor, City of Greensboro, P.O. Box 3136, Greensboro, NC 27402 | October 1, 2010 | 375351
Orange (FEMA Docket No.: B-1141) | Town of Carrboro (09-04-5619P) | June 4, 2010; June 11, 2010; The Chapel Hill Herald | The Honorable Mark Chilton, Mayor, Town of Carrboro, 301 West Main Street, Carrboro, NC 27510 | October 12, 2010 | 370275
Orange (FEMA Docket No.: B-1135) | Town of Chapel Hill (10-04-0448P) | April 16, 2010; April 23, 2010; The Chapel Hill Herald | The Honorable Kevin Foy, Mayor, Town of Chapel Hill, 405 Martin Luther King Jr. Boulevard, Chapel Hill, NC 27514 | August 23, 2010 | 370180

(Catalog of Federal Domestic Assistance No. 97.022, “Flood Insurance.”)

Dated: April 21, 2011.
Sandra K. Knight,
Deputy Federal Insurance and Mitigation Administrator, Mitigation, Department of Homeland Security, Federal Emergency Management Agency.

[FR Doc. 2011-11416 Filed 5-9-11; 8:45 am]

BILLING CODE 9110-12-P